DEPARTMENT OF TRANSPORTATION

Federal Aviation Administration

14 CFR Part 71

[Docket No. FAA-2017-0221; Airspace Docket No. 17-AWP-7]

RIN 2120-AA66

Amendment of Class D and E Airspace; Van Nuys, CA

AGENCY: Federal Aviation Administration (FAA), DOT.

ACTION: Final rule, technical amendment.

SUMMARY: This action removes the Notice to Airmen (NOTAM) part-time status from the legal description of the Class E airspace area designated as an extension at Van Nuys Airport, Van Nuys, CA, and adds NOTAM part-time status information to Class E surface area airspace. These actions bring the airspace descriptions in line with the airspace hours listed in the applicable Chart Supplement. Also, an editorial change is made to the Class D airspace legal description replacing Airport/Facility Directory with the term Chart Supplement.

DATES: Effective 0901 UTC, September 13, 2018. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW, Washington, DC 20591; telephone: 202-267-8783. The Order is also available for inspection at the National Archives and Records Administration (NARA). For information on the availability of this material at NARA, call 202-741-6030, or go to www.archives.gov/federal-register/cfr/ibr-locations.html.

FAA Order 7400.11, Airspace Designations and Reporting Points, is published yearly and effective on September 15.

FOR FURTHER INFORMATION CONTACT: Richard Farnsworth, Federal Aviation Administration, Operations Support Group, Western Service Center, 2200 South 216th Street, Des Moines, WA 98198; telephone 206-231-2244.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends NOTAM part-time information for Class D and E airspace to ensure the efficient use of airspace at Van Nuys Airport.

History

The FAA Aeronautical Information Services branch found the Class E airspace designated as an extension at Van Nuys Airport, Van Nuys, CA, as published in FAA Order 7400.11B, Airspace Designations and Reporting Points, does not require part time status. In addition, NOTAM part-time status is required for Van Nuys Airport in Class E surface area airspace. Also, an editorial change is made to the Class D airspace legal description replacing Airport/Facility Directory with the term Chart Supplement.

Class D and Class E airspace designations are published in paragraph 5000, 6002, 6004, respectively, of FAA Order 7400.11B dated August 3, 2017, and effective September 15, 2017, which is incorporated by reference in 14 CFR part 71.1. The Class D and Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14, Code of Federal Regulations (14 CFR) part 71 by eliminating the following language from the legal description of Class E airspace designated as an extension at Van Nuys Airport, Van Nuys, CA, “This Class E airspace is effective during the specific dates and times established in advance by a Notice to Airmen. The effective date and time will thereafter be continuously published in the Airport/Facility Directory”.

This action also would add NOTAM part-time status information to the regulatory text in Class E surface area airspace for Van Nuys Airport. This brings the airspace descriptions published in the Order in line with the airspace hours listed in the Chart Supplement.

Lastly, this action replaces the outdated term Airport/Facility Directory with the term Chart Supplement in the Class D airspace legal description.

This is an administrative change and does not affect the boundaries, altitudes, or operating requirements of the airspace, therefore, notice and public procedure under 5 U.S.C. 553(b) is unnecessary.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures”, paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, effective September 15, 2017, is amended as follows:

Paragraph 5000 Class D Airspace.

* * * * *

AWP CA D Van Nuys, CA [Amended]

Van Nuys, Van Nuys Airport, CA

(Lat. 34°12′35″ N, long. 118°29′24″ W)

Burbank, Bob Hope Airport, CA

(Lat. 34°12′03″ N, long. 118°21′31″ W)

Los Angeles, Whiteman Airport, CA

(Lat. 34°15′34″ N, long. 118°24′48″ W)

That airspace extending upward from the surface to but not including 3,000 feet within a 4.3-mile radius of Van Nuys Airport, excluding that airspace within the Bob Hope Airport, CA, Class C airspace area, and excluding that airspace within a 1.8-mile radius of Whiteman Airport, CA. This Class D airspace area is effective during the specific dates and times established in advance by a Notice to Airmen. The effective date and time will thereafter be continuously published in the Chart Supplement.

Paragraph 6002 Class E Airspace Designated as Surface Areas.

* * * * *

AWP CA E2 Van Nuys, CA [Amended]

Van Nuys, Van Nuys Airport, CA

(Lat. 34°12′35″ N, long. 118°29′24″ W)

Burbank, Bob Hope Airport, CA

(Lat. 34°12′03″ N, long. 118°21′31″ W)

Los Angeles, Whiteman Airport, CA

(Lat. 34°15′34″ N, long. 118°24′48″ W)

That airspace extending upward from the surface within a 4.3-mile radius of Van Nuys Airport, excluding that airspace within the Bob Hope Airport, CA, Class C airspace area, and excluding that airspace within a 1.8-mile radius of Whiteman Airport, CA. This Class E airspace area is effective during the specific dates and times established in advance by a Notice to Airmen. The effective date and time will thereafter be continuously published in Chart Supplement.

Paragraph 6004 Class E Airspace Areas Extending Upward From 700 Feet or More Above the Surface of the Earth.

* * * * *

AWP CA E4 Van Nuys, CA [Amended]

Van Nuys Airport, CA

(Lat. 34°12′35″ N, long. 118°29′24″ W)

Van Nuys VOR/DME

(Lat. 34°13′24″ N, long. 118°29′30″ W)

That airspace extending upward from the surface within 2.2 miles each side of the Van Nuys VOR/DME 350° radial, extending from the 4.3-mile radius of Van Nuys Airport to 8.3 miles north of the Van Nuys VOR, excluding that airspace within the Whiteman, CA, Class D airspace area.

Issued in Seattle, Washington, on May 29, 2018.
Shawn M. Kozica,
Manager, Operations Support Group, Western Service Center.

[FR Doc. 2018-12079 Filed 6-5-18; 8:45 am]

BILLING CODE 4910-13-P